DEPARTMENT OF THE INTERIOR

Fish and Wildlife Service

Draft Endangered Karst Invertebrate Survey Guidance, Draft Karst Feature Survey Guidance, Draft Preserve Design To Conserve Endangered Karst Invertebrates Guidance, and Draft Recommendations for Protection of Water Quality of the Edwards Aquifer

AGENCY: Fish and Wildlife Service, Interior.

ACTION: Notice of availability.

SUMMARY: The U.S. Fish and Wildlife Service (Service) provides an update on its intentions to revise and make available for public comment the following documents: (1) Draft karst feature survey guidance; (2) draft endangered karst invertebrate survey guidance; (3) draft preserve design to conserve endangered karst invertebrates guidance; and (4) draft recommendations for protection of water quality of the Edwards Aquifer. The first two documents are survey guidance for use in determining: (1) The presence of karst features that may contain potential habitat for karst invertebrates listed under the Endangered Species Act of 1973 (as amended) as endangered in central Texas; and (2) the presence/absence of endangered karst invertebrates within karst features determined to contain potential habitat. The first three documents have commonly been known as the “Karst Protocols” and the document that addressed water quality was often called “water quality criteria.”

DATES: We will accept public comments on the approach proposed in this Notice until April 28, 2003.

ADDRESSES: Written comments and information should be submitted to Field Supervisor, U.S. Fish and Wildlife Service, Austin Ecological Services Field Office, 10711 Burnet Road, Suite 200, Austin, Texas 78758 telephone (512) 490-0057; facsimile (512) 490-0974.

FOR FURTHER INFORMATION CONTACT: Field Supervisor, Austin Ecological Services Field Office (see ADDRESSES).

SUPPLEMENTARY INFORMATION:

Background

Sixteen species of invertebrates known to occur in Bexar, Travis, Williamson and parts of Burnet counties, Texas, are currently listed as endangered under the Endangered Species Act. These invertebrates are only capable of surviving in caves or karstic rock. Karst ecosystems receive moisture and nutrients from the surface community in the form of leaf litter and other organic debris that are washed in or fall into the cave, from tree and other vascular plant roots, and/or through the feces, eggs or dead bodies of animals. In addition to providing nutrients to the karst ecosystem, the plant community also filters contaminants and buffers against changes in temperature and humidity. The major threats to karst invertebrates include the loss of habitat due to urbanization; contamination; predation by and competition with non-native fire ants; and vandalism.

The Edwards Aquifer and associated springs, which includes the Southern, Barton Springs, and Northern segments, provide habitat for 9 federally listed aquatic species, including three salamanders, two fish, three aquatic invertebrates and one plant. In addition, 3 candidate species and many other unique aquatic species are also dependent upon water from the Edwards Aquifer. These species may be vulnerable to water quality degradation, particularly through pollutants entering the aquifer by storm water runoff from urban areas.

The Service has reviewed the Karst Protocols and the Water Quality Recommendations, and decided that an alternative course of action is preferred because we need to ensure that a wider partnership is involved when providing guidance to the interested public. To the extent possible, the Service will use the recovery planning process to gain the public's review and comment on guidance meant to aid in the recovery of threatened and endangered species. Through this notice, the Service announces its intentions to do the following:

(1) With respect to survey guidance for use in determining the presence of karst features that may contain potential habitat for endangered karst invertebrates in central Texas, the Service will work with the Texas Commission on Environmental Quality (TCEQ) and other partners to update as needed the existing TCEQ guidance on Karst Feature Surveys. The Service will recognize TCEQ's guidance as suitable guidance when surveying for karst features.

(2) With respect to survey guidance for endangered karst invertebrates, the Service will request a panel of experts to review all new information regarding how to survey for karst invertebrates. The Service will use the panel's recommendations to modify the section 10(a)(1)(A) permitting requirements and to develop karst invertebrate survey guidance on when to survey caves and how to survey for endangered karst invertebrates found in the caves. This guidance will be made available for review and comment though a Notice of Availability that will be published in the Federal Register by December 30, 2003.

(3) With respect to guidance for preserve design to conserve endangered karst invertebrates, the Service intends to incorporate the guidance as a component of the Service's Bexar County Invertebrate Recovery Plan. The draft recovery plan will be made available for review and comment. The Service no longer intends to issue separate guidance on the establishment of karst preserves. Additionally, the Texas Parks and Wildlife Department, with the Service as a partner, will include “no take” guidance for these listed invertebrates as part of the species accounts that will be developed as a priority update to the revision of the 1995 Endangered and Threatened Animals of Texas document published by the Texas Parks and Wildlife Department. The Service will incorporate the “no take” guidance into the draft recovery plan for the species, which will be available for public review and comment.

(4) With regard to recommendations for protection of water quality of the Edwards Aquifer, the Service does not intend to issue separate guidance. Instead, the draft Barton Springs Salamander Recovery Plan, which is scheduled to be completed in 2003, will include recommendations for protection of water quality in the Barton Springs Zone.

The Service states that prior versions of the Karst Protocols and Water Quality Recommendations are not rules, regulations, requirements, or project evaluation criteria of the Service and will not be used as such by the Service. The documents that have been used in the past as guidance do not create any legal obligations and have no binding legal effect, nor do they establish minimum standards or criteria required to be adopted by state or local governments. Should at any future time the Service decide that guidance on these subjects, other than as outlined above, is needed, the Service will make the draft guidance available for public review and comment for a period of not less than 60 days. At the conclusion of this period, the Service will determine whether to publish any final guidance documents on these topics and, if so, in what form.

Authority: The authority for this action is the Endangered Species Act, as amended (16 U.S.C.1532 et seq.).

H. Dale Hall,
Regional Director, Region 2, Albuquerque, New Mexico.

[FR Doc. 03-4612 Filed 2-26-03; 8:45 am]

BILLING CODE 4310-55-P